SECURITIES AND EXCHANGE COMMISSION

[Release No. 34-45471; File No. SR-Amex-2001-56]

Self-Regulatory Organizations; American Stock Exchange LLC; Order Granting Accelerated Approval to Proposed Rule Change Relating to the Recording of Images, Sounds, or Data on the Trading Floor of the Exchange

February 22, 2002.

On August 1, 2001, the American Stock Exchange LLC (“Amex” or the “Exchange”) filed with the Securities and Exchange Commission (“SEC” or “Commission”), pursuant to Section 19(b)(1) of the Securities Exchange Act of 1934 (“Act”) ¹ and Rule 19b-4 thereunder,² a proposed rule change amending Article II, Section 3 of the Amex Constitution, to control the recording of images, sound, or data on the Trading Floor. On January 15, 2002, the Amex submitted Amendment No. 1 to the proposed rule change.³

¹ 15 U.S.C. 78s(b)(1).

² 17 CFR 240.19b-4.

³ See letter from Geraldine Brindisi, Vice President and Corporate Secretary, Amex, to Nancy Sanow, Assistant Director, Division of Market Regulation, Commission (January 14, 2002) (“Amendment No. 1”). In Amendment No. 1, the Amex limited its proposed rule language to recording of images, sound or data “on the Trading Floor'' (rather than “on the premises of the Exchange”).

The proposed rule change, as amended, was published for comment in the Federal Register on February 1, 2002.⁴ The Commission received no comments on the proposal.

⁴ See Securities Exchange Act Release No. 45333 (January 25, 2002), 67 FR 5015.

After careful review, the Commission finds that the proposed rule change is consistent with the requirements of the Act and the rules and regulations thereunder applicable to a national securities exchange,⁵ and, in particular, the requirements of Section 6 of the Act⁶ and the rules and regulations thereunder. The Commission finds specifically that the proposed rule change is consistent with Section 6(b)(5) of the Act.⁷ Section 6(b)(5)⁸ requires, among other things, that the rules of an exchange be designed to prevent fraudulent and manipulative acts and practices, promote just and equitable principles of trade, remove impediments to and perfect the mechanism of a free and open market and a national market system, and, in general, protect investors and the public interest; and not be designed to permit unfair discrimination between customers, issuers, brokers, or dealers.

⁵ In approving this proposed rule change, the Commission has considered the rule's impact on efficiency, competition, and capital formation. 15 U.S.C. 78c(f).

⁶ 15 U.S.C. 78f.

⁷ 15 U.S.C. 78f(b)(5).

⁸ Id.

The Commission believes that the proposed rule change promotes the objectives of this section of the Act. Specifically, the proposed rule change will promote just and equitable principles of trade by protecting any rights the Exchange may have with regard to images and sounds emanating from the Trading Floor and by promoting the orderly conduct of business on the Trading Floor.

The Commission finds good cause for approving the proposed rule change prior to the thirtieth day after the date of publication of the notice of filing thereof in the Federal Register. Because no comments were received and because the proposed rule change will promote just and equitable principles of trade, the Commission finds that there is good cause, consistent with Section 6(b)(5) of the Act,⁹ to approve the proposal on an accelerated basis.

⁹ 15 U.S.C. 78f(b)(5).

It is therefore ordered, pursuant to Section 19(b)(2) of the Act,¹⁰ that the proposed rule change (File No. SR-Amex-2001-56) be, and it hereby is, approved.

¹⁰ 15 U.S.C. 78s(b)(2).

For the Commission, by the Division of Market Regulation, pursuant to delegated authority.¹¹
¹¹ 17 CFR 200.30-3(a)(12).
Margaret H. McFarland,
Deputy Secretary.

[FR Doc. 02-5062 Filed 3-1-02; 8:45 am]

BILLING CODE 8010-01-P